DEPARTMENT OF HOUSING AND URBAN DEVELOPMENT

[Docket No. FR-4565-N-32]

Management Review Report for Subsidized Multifamily Housing Programs

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: February 13, 2001.

ADDRESSES: Interested persons are invited to submit comments regarding this proposal. Comments should refer to the proposal by name and/or OMB Control Number and should be sent to: Wayne Eddins, Reports Management Officer, Department of Housing and Urban Development, 451 7th Street, SW, L'Enfant Building, room 8202, Washington, DC 20410, telephone (202) 708-5221 (this is not a toll-free number) for copies of the proposed forms and other available information.

FOR FURTHER INFORMATION CONTACT: Beverly J. Miller, Director, Policy and Participation Standards Division, Department of Housing and Urban Development, 451 7th Street, SW, Washington, DC 20410, telephone number (202) 708-1320 (this is not a toll-free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Management Review Report for Subsidized Multifamily Housing Programs.

OMB Control Number, if applicable: 2502-0259.

Description of the need for the information and proposed use: Owners are required to submit Management Review Reports when the owner changes management agents, when a project has been determined to be an unacceptable risk, or the owner and agent negotiate a new management fee and/or management agreement, or the agent makes major changes in its organization structure.

Agency form numbers, if applicable: HUD-9838.

Estimation of the total numbers of hours needed to prepare the information collection including number of respondents, frequency of response, and hours of response: The number of respondents of HUD staff and Contract Administrators is 900; the frequency of responses is 1; estimated time to prepare collection is 8 hours per response, and the total annual burden hours are 7,200.

Status of the proposed information collection: Revision of currently approved collection.

Authority: The Paperwork Reduction Act of 1955, 44 U.S.C., Chapter 35, as amended.

Dated: December 11, 2000.
William C. Apgar,
Assistant Secretary for Housing—FHA.

[FR Doc. 00-31985 Filed 12-14-00; 8:45 am]

BILLING CODE 4210-27-M